DEPARTMENT OF COMMERCE

International Trade Administration

[C-570-171]

Disposable Aluminum Containers, Pans, Trays, and Lids From the People's Republic of China: Postponement of Preliminary Determination in the Countervailing Duty Investigation

AGENCY: Enforcement and Compliance, International Trade Administration, Department of Commerce.

DATES: Applicable July 25, 2024.

FOR FURTHER INFORMATION CONTACT: Brian Warnes, AD/CVD Operations, Office VII, Enforcement and Compliance, International Trade Administration, U.S. Department of Commerce, 1401 Constitution Avenue NW, Washington, DC 20230; telephone: (202) 482-0028.

SUPPLEMENTARY INFORMATION:

Background

On June 5, 2024, the U.S. Department of Commerce (Commerce) initiated a countervailing duty (CVD) investigation of imports of disposable aluminum containers, pans, trays, and lids (disposable aluminum containers) from the People's Republic of China (China).¹ Currently, the preliminary determination is due no later than August 9, 2024.

¹ See Disposable Aluminum Containers, Pans, Trays, and Lids from the People's Republic of China: Initiation of Countervailing Duty Investigation, 89 FR 49833 (June 12, 2024) (Initiation Notice).

Postponement of Preliminary Determination

Section 703(b)(1) of the Tariff Act of 1930, as amended (the Act), requires Commerce to issue the preliminary determination in a countervailing duty investigation within 65 days after the date on which Commerce initiated the investigation. However, section 703(c)(1) of the Act permits Commerce to postpone the preliminary determination until no later than 130 days after the date on which Commerce initiated the investigation if: (A) the petitioner ² makes a timely request for a postponement; or (B) Commerce concludes that the parties concerned are cooperating, that the investigation is extraordinarily complicated, and that additional time is necessary to make a preliminary determination. Under 19 CFR 351.205(e), the petitioner must submit a request for postponement 25 days or more before the scheduled date of the preliminary determination and must state the reasons for the request. Commerce will grant the request unless it finds compelling reasons to deny the request.

² The petitioner is the Aluminum Foil Container Manufacturers Association.

On July 15, 2024, the petitioner submitted a timely request that Commerce postpone the preliminary CVD determination.³ The petitioner stated that it requests postponement “to permit the agency to review the initial questionnaire response and to issue supplemental questionnaires to the respondents and the {Government of China} to clarify responses and to determine accurately the extent to which countervailable subsidies have benefitted the respondents during the period of investigation.” ⁴

³ See Petitioner's Letter, “Petitioners' Request for Postponement of Preliminary Determination,” dated July 15, 2024.

⁴ Id.

In accordance with 19 CFR 351.205(e), the petitioner has stated the reasons for requesting a postponement of the preliminary determination, and Commerce finds no compelling reason to deny the request. Therefore, in accordance with section 703(c)(1)(A) of the Act, Commerce is postponing the deadline for the preliminary determinations to no later than 130 days after the date on which this investigation was initiated, i.e., October 15, 2024.⁵ Pursuant to section 705(a)(1) of the Act and 19 CFR 351.210(b)(1), the deadline for the final determination of this investigation will continue to be 75 days after the date of the preliminary determination.

⁵ Postponing the preliminary determination to 130 days after initiation would place the deadline on Sunday, October 13, 2024. Commerce's practice dictates that where a deadline falls on a weekend or federal holiday, the appropriate deadline is the next business day. See Notice of Clarification: Application of “Next Business Day” Rule for Administrative Determination Deadlines Pursuant to the Tariff Act of 1930, As Amended, 70 FR 24533 (May 10, 2005).

This notice is issued and published pursuant to section 703(c)(2) of the Act and 19 CFR 351.205(f)(1).

Dated: July 18, 2024.
Ryan Majerus,
Deputy Assistant Secretary for Policy and Negotiations, performing the non-exclusive functions and duties of the Assistant Secretary for Enforcement and Compliance.

[FR Doc. 2024-16390 Filed 7-24-24; 8:45 am]

BILLING CODE 3510-DS-P